DEPARTMENT OF COMMERCE

International Trade Administration

[A-570-033]

Large Residential Washers From the People's Republic of China: Postponement of Preliminary Determination of Antidumping Duty Investigation

AGENCY: Enforcement and Compliance, International Trade Administration, Department of Commerce.

DATES: Effective Date: May 12, 2016.

FOR FURTHER INFORMATION CONTACT: David Goldberger at (202) 482-4136 or Brian Smith at (202) 482-1766, Office II, AD/CVD Operations, Enforcement and Compliance, U.S. Department of Commerce, 14th Street and Constitution Avenue NW., Washington, DC 20230.

SUPPLEMENTARY INFORMATION:

Background

On January 5, 2016, the Department of Commerce (the Department) initiated the antidumping duty investigation of large residential washers (washing machines) from the People's Republic of China (PRC).¹ The notice of initiation stated that the Department, in accordance with section 733(b)(1)(A) of the Tariff Act of 1930, as amended (the Act), and 19 CFR 351.205(b)(1), would issue its preliminary determination for this investigation, unless postponed, no later than 140 days after the date of the initiation. As explained in the memorandum from the Acting Assistant Secretary for Enforcement and Compliance, the Department has exercised its discretion to toll all administrative deadlines due to the recent closure of the Federal Government.² All deadlines in this investigation have been extended by four business days.³ The revised deadline for the preliminary determination of this antidumping duty investigation is currently May 31, 2016.⁴

¹ See Large Residential Washers From the People's Republic of China: Initiation of Less-Than-Fair-Value Investigation, 81 FR 1398 (January 12, 2016).

² See Memorandum to the Record from Ron Lorentzen, Acting A/S for Enforcement and Compliance, “Tolling of Administrative Deadlines As a Result of the Government Closure During Snowstorm Jonas” (January 27, 2016).

³ Id.

⁴ Where the deadline falls on a weekend/holiday, the appropriate date is the next business day. Because the deadline for the preliminary determination of this antidumping duty investigation is Monday, May 30, 2016, a federal holiday, the appropriate date is the next business day, Tuesday, May 31, 2016.

Period of Investigation

The period of investigation is April 1, 2015, through September 30, 2015.

Postponement of Preliminary Determination

Section 733(c)(1)(A) of the Act permits the Department to postpone the time limit for the preliminary determination if it receives a timely request from the petitioner for postponement. The Department may postpone the preliminary determination under section 733(c)(1) of the Act no later than 190 days after the date on which the administering authority initiates an investigation.

On May 2, 2016, Whirlpool Corporation (the petitioner), made a timely request pursuant to section 733(c)(1) of the Act, 19 U.S.C. 1673(c)(1) and 19 CFR 351.205(e) for a 50-day postponement of the preliminary determination in this investigation.⁵ The petitioner stated that a postponement is necessary given the unprecedented number of factors of production that need to be accurately classified and valued, and the amount of time that will be needed for the Department to conduct a complete and thorough analysis. The petitioner further stated that a postponement is needed to allow time to address the various deficiencies in the questionnaire responses submitted in this case. The petitioner submitted its request more than 25 days before the scheduled date of the preliminary determination.⁶

⁵ See Letter from the petitioner, “Large Residential Washers from the People's Republic of China: Petitioner's Request for Extension of the Preliminary Determination” (May 2, 2016).

⁶ See 19 CFR 351.205(e).

For the reasons stated above, and because there are no compelling reasons to deny the petitioner's request, the Department is postponing the preliminary determination in this investigation in accordance with section 733(c)(1)(A) of the Act and 19 CFR 351.205(b)(2) and (e) by 50 days until July 19, 2016.⁷

⁷ Where the deadline falls on a weekend/holiday, the appropriate date is the next business day. Because 190 days after the date on which the administering authority initiated this investigation is Wednesday, July 13, 2016, and all deadlines in this investigation were extended by four business days, the appropriate date is Tuesday, July 19, 2016.

The deadline for the final determination will continue to be 75 days after the date of the preliminary determination, unless extended.

This notice is issued and published pursuant to section 733(c)(2) of the Act and 19 CFR 351.205(f)(1).

Dated: May 5, 2016.
Paul Piquado,
Assistant Secretary for Enforcement and Compliance.

[FR Doc. 2016-11244 Filed 5-11-16; 8:45 am]

BILLING CODE 3510-DS-P